DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (last amended at Federal Register, Vol. 76, No. 75, p. 21909, dated April 19, 2011) is amended to revise the functions of the Office of Communications (OC).

Under Part F., Section FC. 20 (Functions) for OC is revised as follows:

• Serves as CMS' focal point for internal and external strategic and tactical communications providing leadership for CMS in the areas of customer service; Web site operations; traditional and new media including web initiatives such as social media supported by innovative, increasingly mobile technologies; media relations; call center operations; consumer materials; public information campaigns; and public engagement.

• Serves as senior advisor to the Administrator in all activities related to the media. Provides consultation, advice, and training to CMS' senior staff with respect to relations with the news media.

• Coordinates with external partners including the Department of Health and Human Services (HHS) and the White House on key communication and public engagement initiatives, leveraging CMS resources to strategically support these activities.

• Contributes to the formulation of policies, programs, and systems as related to strategic and tactical communications.

• Coordinates with the Office of Legislation on the development and advancement of new legislative initiatives and improvements.

• Oversees communications research, design and development, evaluation and continuous improvement activities for improving internal and external communication tools, including but not limited to brochures, public information campaigns, handbooks, Web sites, reports, presentations/briefings.

• Identifies communication best practices for the benefit of CMS beneficiaries (i.e., of the Medicare and Medicaid programs) and other CMS customers.

• Formulates and implements a customer service plan that serves as a roadmap for the effective treatment and advocacy of customers and the quality of information provided to them.

• Oversees beneficiary and consumer call centers and provides leadership for CMS in the area of call center operations.

• Oversees all CMS interactions and collaborations with key stakeholders (external advocacy groups, contractors, local and State governments, HHS, the White House, other CMS components, and other Federal entities) related to the Medicare and Medicaid and other Agency programs.

• Coordinates stakeholder relations, community outreach, and public engagement with the CMS Regional Offices.

Authority: 44 U.S.C 3101.

Dated: April 25, 2013.
Marilyn B. Tavenner,
Acting Administrator and Chief Operating Officer, Centers for Medicare & Medicaid Services.

[FR Doc. 2013-10426 Filed 5-2-13; 8:45 am]

BILLING CODE 4120-01-P